DEPARTMENT OF COMMERCE

National Oceanic and Atmospheric Administration

RIN 0648-XC901

Endangered and Threatened Species; Notice of Intent To Prepare a Recovery Plan for Main Hawaiian Islands Insular False Killer Whale Distinct Population Segment

AGENCY: National Marine Fisheries Service (NMFS), National Oceanic and Atmospheric Administration (NOAA), Commerce.

ACTION: Notice of intent to prepare a recovery plan; request for information.

SUMMARY: The National Marine Fisheries Service (NMFS) is announcing its intent to prepare a recovery plan for the Main Hawaiian Islands insular false killer whale (Pseudorca crassidens) distinct population segment (MHI Insular FKW) and requests information from the public. NMFS is required by section 4(f) of the Endangered Species Act of 1973 (ESA), as amended, to develop and implement recovery plans for the conservation and survival of federally listed species unless the Secretary finds that such a plan will not promote the conservation of the species.

DATES: To allow adequate time to conduct a review of information submitted, all information must be received no later than November 1, 2013.

ADDRESSES: Information may be submitted by any one of the following methods:

• Via email: NMFS.PIR.FKWRecoveryPlan@noaa.gov (No files larger than 5MB can be accepted).

• Mail or Hand-Delivery: National Marine Fisheries Service Pacific Islands Regional Office, 1601 Kapiolani Blvd., Suite 1110, Honolulu, HI 96814. ATTN: Irene Kelly.

• Via fax: (808) 973-2941. Please include the following on the cover page of the fax “ATTN: Irene Kelly.”

FOR FURTHER INFORMATION CONTACT: Irene Kelly, NMFS Pacific Islands Regional Office, (808) 944-2239.

SUPPLEMENTARY INFORMATION: NMFS is charged with the recovery of the MHI Insular FKW, listed as endangered under the Endangered species Act of 1973 (ESA). Recovery means improvement in the status of listed species to the point at which the protections of the ESA are no longer necessary. The ESA specifies that recovery plans must include: (1) A description of management actions necessary to achieve the plan's goals for the conservation and survival of the species; (2) objective, measurable criteria which, when met, would result in the species being removed from the list; and (3) estimates of the time and costs required to achieve the plan's goal and the intermediate steps towards that goal. Section 4(f) of the ESA requires that public notice and an opportunity for public review and comment be provided during recovery plan development. We are soliciting relevant information related to the MHI insular FKW and their habitat, including:

1. Criteria for removing MHI insular FKW from the list of threatened and endangered species;

2. Human activities that contribute to the ESA listing factors (section 4(a)(1)(A)-(E)):

(A) Present or threatened destruction, modification, or curtailment of its habitat or range;

(B) overutilization for commercial, recreational, scientific, or educational purposes;

(C) disease or predation;

(D) the inadequacy of existing regulatory mechanisms; or

(E) other natural or manmade factors affecting its continued existence.

3. Physical, biological or chemical features of the environment that limit the recovery of MHI insular FKW;

4. Strategies and/or actions to recover MHI insular FKW;

5. Estimates of the time and cost to implement recovery actions;

6. Critical knowledge gaps and/or uncertainties that need to be resolved to better inform recovery efforts; and

7. Research, monitoring, and evaluation needs to address knowledge gaps and uncertainties, or to assess the species' status, limiting factors, and threats relative to recovery goals.

Upon completion, the proposed Recovery Plan will be available for public review and comment through the publication of a Federal Register Notice.

Status Review Documents

NMFS developed a status review (NOAA Technical Memorandum NMFS-PIFSC-22) and an addendum to the status review (NOAA Internal Report NMFS-PIFSC-IR-12-038) for the MHI Insular FKW to help inform the recovery plan. Additional information that may help inform the recovery plan is the False Killer Whale Take Reduction Plan and the final rule to implement the Plan (77 FR 71260). The Plan and the final rule were developed to address the incidental mortality and serious injury of false killer whales in Hawaii's commercial longline fisheries. All of these above listed documents and information may be accessed at http://www.fpir.noaa.gov/PRD/prd_false_killer_whale.html.

Authority: 16 U.S.C. 1531 et seq.

Dated: September 27, 2013.
Angela Somma,
Chief, Endangered Species Division, Office of Protected Resources, National Marine Fisheries Service.

[FR Doc. 2013-24049 Filed 10-1-13; 8:45 am]

BILLING CODE 3510-22-P